DEPARTMENT OF ENERGY

Federal Energy Regulatory Commission

[Docket No. EG05-70-000, et al.]

Calumet Energy Team, LLC, et al.; Electric Rate and Corporate Filings

June 2, 2005.

The following filings have been made with the Commission. The filings are listed in ascending order within each docket classification.

1. Calumet Energy Team, LLC

[Docket No. EG05-70-000]

On May 31, 2005, Calumet Energy Team, LLC (CET) filed with the Commission an application for redetermination of exempt wholesale generator status pursuant to Part 365 of the Commission's regulations. CET states that copies of the application were sent to the Securities and Exchange Commission and the Illinois Commerce Commission.

Comment Date: 5 pm Eastern Time on June 21, 2005.

2. Eastern Landfill Gas, LLC

[Docket No. EG05-71-000]

Take notice that on May 31, 2005, Eastern Landfill Gas, LLC tendered for filing an application for Determination of Exempt Wholesale Generator Status.

Comment Date: 5 p.m. Eastern Time on June 21, 2005.

3. Strategic Energy, LLC

[Docket No. ER96-3107-015]

Take notice that on May 26, 2005, Strategic Energy, LLC, submitted a supplement to its December 20, 2004 filing in Docket No. ER96-3107-014 of a notice of change in status.

Comment Date: 5 p.m. on June 16, 2005.

4. AES Redondo Beach, L.L.C.

[Docket No. ER98-2186-012]

Take notice that on May 25, 2005, AES Redondo Beach, L.L.C., submitted an errata to its May 18, 2005 filing in Docket No. ER98-2186-010.

Comment Date: 5 p.m. on June 15, 2005.

5. AmerGen Energy Company, LLC, Commonwealth Edison Company, Exelon Energy Company, Exelon Edgar LLC, Exelon Framingham LLC, Exelon New Boston LLC, Exelon West Medway LLC, Exelon Generation Company, L.L.C., Exelon New England Power Marketing, L.P., PECO Energy Company and Unicom Power Marketing, Inc.

[Docket Nos. ER99-754-009, ER99-754-010, ER98-1734-007, ER98-1734-008, ER01-1919-004, ER01-1919-005, ER01-513-006, ER01-513-009, ER00-3251-007, ER00-3251-008, ER99-2404-005, ER99-2404-006, ER99-1872-008, ER99-1872-009, ER97-3954-017 and ER97-3954-018]

Take notice that on May 23, 2005, Exelon Generation Company, LLC and its affiliates listed in the caption above (jointly, Exelon) submitted a response to the Commission's deficiency letter issued March 25, 2005 in the above-referenced proceedings.

Comment Date: 5 p.m. Eastern Time on June 13, 2005.

6. Constellation Energy Group, Inc. and Oleander Power Project, Limited Partnership

[Docket Nos. ER99-2948-005 and ER00-3240-003]

Take notice that on May 23, 2005, Constellation Energy Group, Inc. (Constellation) submitted a supplement to its May 2, 2005 Notice of Change in Status filing with the addition of Baltimore Gas and Electric Company's revised market-based rate tariff to incorporate the language required by Order No. 652 and the addition of Oleander Power Project, Limited Partnership, Docket No. ER00-3240, which was inadvertently omitted from the caption of the May 2, 200 filing.

Comment Date: 5 p.m. on June 13, 2005.

7. AES Red Oak, L.L.C.

[Docket No. ER01-2401-007]

Take notice that on May 25, 2005, AES Red Oak, L.L.C. (Red Oak) submitted an errata to its compliance filing of May 18, 2005 in Docket No. ER01-2401-007.

Comment Date: 5 p.m. on June 15, 2005.

8. AES Red Oak, L.L.C.

[Docket No. ER01-2401-008]

Take notice that on May 25, 2005, AES Red Oak, L.L.C. (Red Oak) submitted an errata to its May 18, 2005 filing in Docket No. ER01-2401-006.

Comment Date: 5 p.m. on June 15, 2005.

9. Ontario Energy Trading International Corp.

[Docket No. ER02-1021-004]

Take notice that on May 26, 2005, Ontario Energy Trading International Corp. (Ontario Energy) submitted a supplemental compliance filing pursuant to the Commission's new interim generation market power screens issued on April 14, 2004 in AEP Power Marketing Inc., et al., 107 FERC ¶ 61,018 (2004), order on reh'g., 108 FERC ¶ 61,026 (2004).

Ontario Energy states that copies of the filing were served on parties on the official service list in Docket No. ER02-1021-000.

Comment date: 5 pm Eastern Time on June 16, 2005.

10. Midwest Independent Transmission, System Operator, Inc., Midwest Independent Transmission System Operator, Inc. and Ameren Services Co., et al.

[Docket Nos. ER05-6-022, EL04-135-024, EL02-111-042 and EL03-212-038]

Take notice that on May 26, 2005, Duke Energy North America, LLC (Duke) submitted a hubbing adjustment for the Duke Energy Vermillion, LLC and Duke Energy Washington, LLC control areas.

Duke states that it copies of the public version of the filing were served upon the official service list in the above-captioned proceedings.

Comment Date: 5 p.m. on June 7, 2005.

11. Midwest Independent Transmission System Operator, Inc. and Ameren Services, Co., et al.

[Docket Nos. ER05-6-026, EL04-135-028, EL02-111-046 and EL03-212-042]

Take notice that on May 26, 2005, Duquesne Light Company (Duquesne) is submitting for filing amendments to its April 20, 2005 Affidavit and Exhibits of Robert G. Thomson filed as part of the April 20, 2005 compliance filing submitted by American Electric Power Service Corporation, Commonwealth Edison Company and Commonwealth Edison Company of Indiana, Inc., and Dayton Power and Light Company (collectively, New PJM Companies) in Docket Nos. ER05-6-18, EL04-135-20, EL02-111-38, and EL03-212-34.

Comment Date: 5 p.m. on June 7, 2005.

12. Consolidated Edison Company of New York, Inc.

[Docket No. ER05-826-000]

Take notice that on May 27, 2005, as supplemented on May 31, 2005, Consolidated Edison Company of New York, Inc. filed a notice of withdrawal of its April 20, 2005 tariff filing in the above-referenced proceeding.

Comment Date: 5 p.m. Easter Time on June 21, 2005.

Standard Paragraph

Any person desiring to intervene or to protest in any of the above proceedings must file in accordance with Rules 211 and 214 of the Commission's Rules of Practice and Procedure (19 CFR 385.211 and 385.214) on or before 5 pm Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to long on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the web site that enables subscribers to receive e-mail notification when a document is added to a subscribed docket(s). For assistance with any FERC Online service, please e-mail FERCOnlineSupport@ferc.gov or call (866) 208-3676 (toll free). For TYY, call (202) 502-8659.

Linda Mitry,
Deputy Secretary.

[FR Doc. E5-2973 Filed 6-8-05; 8:45 am]

BILLING CODE 6717-01-P